DEPARTMENT OF JUSTICE

Notice of Lodging of Consent Decree Pursuant to the Clean Water Act

In accordance with Departmental Policy, 28 CFR 50.7, notice is hereby given that a consent decree in United States of America v. HS Resources, Inc., and South Tech Exploration, L.L.C., Civil Action No. CV00-1850 (W.D. La.), was lodged with the United States District Court for the Western District of Louisiana on August 9, 2000.

This is a civil action commenced under Sections 309(b) and (d) and 404 of the Clean Water Act (“CWA”), 33 U.S.C. 1319(b) and (d), 1344, to obtain injunctive relief and civil penalties against HS Resources, Inc., and SouthTech Exploration, L.L.C. (“Defendants”) for the discharge of pollutants into waters of the United States at ten oil well sites in Beauregard, Acadia, Jefferson Davis, Calcasieu and Allen Parishes, Louisiana (“the Sites”), without authorization by the United States Department of the Army under CWA section 404(a), 33 U.S.C. 134(a), all in violation of CWA section 301(a), 33 U.S.C. 1311(a).

The proposed Consent Decree would resolve these violations and, among other provisions, would require Defendants (1) to pay civil penalties totaling $700,000, (2) spent an additional $500,000 to acquire one or more wetlands tracts in Louisiana and convey the property to The Nature Conservancy for preservation; (3) apply to the U.S. Army Corps of Engineers (“Corps”) for an after-the-fact permit for the unauthorized discharges; and (4) to comply with all terms and conditions of any permit that is issued. The proposed Consent Decree further provides that if the Corps denies the after-the-fact permit, the United States reserves, and the Consent Decree does not affect, the right to issue an administrative order or orders to remove all or part of the fill placed at the Sites, and/or to require mitigation with respect to the unauthorized fill at the Sites.

The Department of Justice will accept written comments relating to the proposed Consent Decree for thirty (30) days from the date of publication of this notice. Comments should be addressed to the Assistant Attorney General, Environment and Natural Resources Division, U.S. Department of Justice, Atention: Brian H. Lynk, Environmental Defense Section, P.O. Box 23986, Washington, DC 20026-3986, and must refer to United States of America v. HS Resources, Inc., and SouthTech Exploration, L.L.C., DJ Reference No. 90-5-1-1-05767.

The proposed consent decree is on file at the Clerk's Office, United States District Court, Western District of Louisiana, Lake Charles Division, 611 Broad Street, Lake Charles, Louisiana 70601, and may be examined there to the extent allowed by the rules of the Clerk's Office. In addition, written requests for a copy of the consent decree may be mailed to Brian H. Lynk, Environmental Defense Section, U.S. Department of Justice, P.O. Box 23986, Washington, DC 20026-3986, and should refer to United States of America v. HS Resources, Inc., and SouthTech Exploration, L.L.C., DJ Reference No. 90-5-1-1-05767. All written requests for a copy of the Consent Decree must include the full mailing address to which the Consent Decree should be sent.

Letitia J. Grishaw,
Chief, Environmental Defense Section, Environment and Natural Resources Division, U.S. Department of Justice.

[FR Doc. 00-21287 Filed 8-21-00; 8:45 am]

BILLING CODE 4410-15-M